Title 3—

The President

Proclamation 9687 of December 22, 2017

To Take Certain Actions Under the African Growth and Opportunity Act and for Other Purposes

By the President of the United States of America

A Proclamation

1. In Proclamation 9223 of December 23, 2014, President Obama determined that the Republic of The Gambia (“The Gambia”) was not making continual progress in meeting the requirements described in section 506A(a)(1) of the Trade Act of 1974, as amended (the “Trade Act”) (19 U.S.C. 2466a(a)), as added by section 111(a) of the African Growth and Opportunity Act (the “AGOA”). Thus, pursuant to section 506A(a)(3) of the Trade Act (19 U.S.C. 2466a(a)(3)), President Obama terminated the designation of The Gambia as a beneficiary sub-Saharan African country for purposes of section 506A of the Trade Act.

2. In Proclamation 9145 of June 26, 2014, President Obama determined that the Kingdom of Swaziland was not making continual progress in meeting the requirements described in section 506A(a)(1) of the Trade Act. Thus, pursuant to section 506A(a)(3) of the Trade Act, President Obama terminated the designation of the Kingdom of Swaziland as a beneficiary sub-Saharan African country for purposes of section 506A of the Trade Act.

3. Section 506A(a)(1) of the Trade Act authorizes the President to designate a country listed in section 107 of the AGOA (19 U.S.C. 3706) as a beneficiary sub-Saharan African country if the President determines that the country meets the eligibility requirements set forth in section 104 of the AGOA (19 U.S.C. 3703), as well as the eligibility criteria set forth in section 502 of the Trade Act (19 U.S.C. 2462).

4. Pursuant to section 506A(a)(1) of the Trade Act, based on actions that The Gambia and the Kingdom of Swaziland have taken, I have determined that The Gambia and the Kingdom of Swaziland meet the eligibility requirements set forth in section 104 of the AGOA and section 502 of the Trade Act, and I have decided to designate The Gambia and the Kingdom of Swaziland as beneficiary sub-Saharan African countries.

5. On April 22, 1985, the United States and Israel entered into the Agreement on the Establishment of a Free Trade Area between the Government of the United States of America and the Government of Israel (the “USIFTA”), which the Congress approved in section 3 of the United States-Israel Free Trade Area Implementation Act of 1985 (the “USIFTA Act”) (19 U.S.C. 2112 note).

6. Section 4(b) of the USIFTA Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA.

7. In order to maintain the general level of reciprocal and mutually advantageous concessions with respect to agricultural trade with Israel, on July 27, 2004, the United States entered into an agreement with Israel concerning certain aspects of trade in agricultural products during the period January 1, 2004, through December 31, 2008 (the “2004 Agreement”).

8. In Proclamation 7826 of October 4, 2004, consistent with the 2004 Agreement, President Bush determined, pursuant to section 4(b) of the USIFTA Act, that, in order to maintain the general level of reciprocal and mutually advantageous concessions with respect to Israel provided for by the USIFTA, it was necessary to provide duty-free access into the United States through December 31, 2008, for specified quantities of certain agricultural products of Israel.

9. Each year from 2008 through 2016, the United States and Israel entered into agreements to extend the period that the 2004 Agreement was in force for 1-year periods to allow additional time for the two governments to conclude an agreement to replace the 2004 Agreement.

10. To carry out the extension agreements, the President in Proclamation 8334 of December 31, 2008; Proclamation 8467 of December 23, 2009; Proclamation 8618 of December 21, 2010; Proclamation 8770 of December 29, 2011; Proclamation 8921 of December 20, 2012; Proclamation 9072 of December 23, 2013; Proclamation 9223 of December 23, 2014; Proclamation 9383 of December 21, 2015; and Proclamation 9555 of December 15, 2016 modified the Harmonized Tariff Schedule of the United States (the “HTS”) to provide duty-free access into the United States for specified quantities of certain agricultural products of Israel, each time for an additional 1-year period.

11. On December 5, 2017, the United States entered into an agreement with Israel to extend the period that the 2004 Agreement is in force through December 31, 2018, and to allow for further negotiations on an agreement to replace the 2004 Agreement.

12. Pursuant to section 4(b) of the USIFTA Act, I have determined that it is necessary, in order to maintain the general level of reciprocal and mutually advantageous concessions with respect to Israel provided for by the USIFTA, to provide duty-free access into the United States through the close of December 31, 2018, for specified quantities of certain agricultural products of Israel, as provided in Annex I of this proclamation.

13. Section 1206(a) of the Omnibus Trade and Competitiveness Act of 1988 (the “1988 Act”) (19 U.S.C. 3006(a)) authorizes the President to proclaim modifications to the HTS based on the recommendations of the United States International Trade Commission (the “Commission”) under section 1205 of the 1988 Act (19 U.S.C. 3005) if he determines that the modifications are in conformity with United States obligations under the International Convention on the Harmonized Commodity Description and Coding System (the “Convention”) and do not run counter to the national economic interest of the United States. The Commission has recommended modifications to the HTS pursuant to section 1205 of the 1988 Act to conform the HTS to amendments made to the Convention.

14. Proclamation 7987 of February 28, 2006, implemented the Dominican Republic-Central America-United States Free Trade Agreement (the “CAFTA-DR”) with respect to the United States and, pursuant to section 201 of the Dominican Republic-Central America-United States Free Trade Agreement Implementation Act (the “CAFTA-DR Act”) (19 U.S.C. 4031), the staged reductions in duty that the President determined to be necessary or appropriate to carry out or apply articles 3.3, 3.5, 3.6, 3.21, 3.26, 3.27, and 3.28, and Annexes 3.3 (including the schedule of United States duty reductions with respect to originating goods), 3.27, and 3.28 of the CAFTA-DR.

15. The United States, Costa Rica, the Dominican Republic, El Salvador, Guatemala, Honduras, and Nicaragua (the “CAFTA-DR countries”) are parties to the Convention. Because changes to the Convention are reflected in slight differences of form between the national tariff schedules of the United States and the other CAFTA-DR countries, Annexes 4.1, 3.25, and 3.29 of the CAFTA-DR must be changed to ensure that the tariff and certain other treatment accorded under the CAFTA-DR to originating goods will continue to be provided under the tariff categories that were proclaimed in Proclamation 7987. The United States and the other CAFTA-DR countries have agreed to make these changes.

16. Section 201 of the CAFTA-DR Act authorizes the President to proclaim such modifications or continuation of any duty, such continuation of duty-free or excise treatment, or such additional duties, as the President determines to be necessary or appropriate to carry out or apply articles 3.3, 3.5, 3.6, 3.21, 3.26, 3.27, and 3.28, and Annexes 3.3 (including the schedule of United States duty reductions with respect to originating goods), 3.27, and 3.28 of the CAFTA-DR.

17. I have determined that the modifications to the HTS proclaimed pursuant to section 201 of the CAFTA-DR Act and section 1206(a) of the 1988 Act (19 U.S.C. 3006(a)) are necessary or appropriate to ensure the continuation of tariff and certain other treatment accorded originating goods under tariff categories modified in Proclamation 9549 and to carry out the duty reductions proclaimed in Proclamation 7987.

18. In Proclamation 8618 of December 21, 2010, pursuant to section 111(b) of the Uruguay Round Agreements Act (the “URAA”) (19 U.S.C. 3521(b)), President Obama proclaimed the modification of Schedule XX-United States of America, annexed to the Marrakesh Protocol to the General Agreement on Tariffs and Trade 1994 (“GATT 1994”), to reflect the implementation by the United States of the multilateral agreement on certain pharmaceuticals and chemical intermediates negotiated under the auspices of the World Trade Organization. In addition, President Obama proclaimed modifications to the pharmaceuticals appendix to the HTS to reflect the duty eliminations provided for in that agreement. I have determined, pursuant to section 604 of the Trade Act, that it is necessary to modify the annex of Proclamation 8618, as provided in Annex II of this proclamation, to correct one inadvertent omission so that the intended tariff treatment is provided.

19. In Proclamation 6763 of December 23, 1994, pursuant to section 111(a) of the URAA (19 U.S.C. 3521(a)), President Clinton proclaimed the modification of duties to carry out Schedule XX-United States of America, annexed to the Marrakesh Protocol to the GATT 1994. These modifications were set out in the annex of the proclamation, including the addition of General Note 13 and of the Pharmaceutical Appendix to the HTS. In Proclamation 8097 of December 29, 2006, pursuant to section 1206(a) of the 1988 Act (19 U.S.C. 3006(a)), President Bush proclaimed modifications to the HTS to conform it to the Convention or any amendment thereto recommended for adoption, to promote the uniform application of the Convention, to establish additional subordinate tariff categories, and to make technical and conforming changes to existing provisions. These modifications to the HTS were set out in Annex I of Publication 3898 of the Commission, which was incorporated by reference into the proclamation. In Proclamation 9466 of June 30, 2016, pursuant to section 111(b) of the URAA (19 U.S.C. 3521(b)), President Obama proclaimed modifications to the tariff categories and rates of duty set forth in the HTS to implement the World Trade Organization Declaration on the Expansion of Trade in Information Technology Products (“Declaration”). These modifications were set out in Annexes I and II of Proclamation 9466. I have determined, pursuant to section 604 of the Trade Act (19 U.S.C. 2483), that it is necessary to modify Annex I of Proclamation 9466, as provided in Annex II of this proclamation, to correct one inadvertent omission so that the intended tariff treatment is provided and to make certain additional conforming changes to Annex I of Proclamation 9466.

20. In Proclamation 9549 of December 1, 2016, pursuant to section 1206(a) of the 1988 Act, President Obama proclaimed modifications to the HTS to conform it with the Convention in order to promote the uniform application of the Convention. These modifications to the HTS were set out in Annex I of Publication 4653 of the Commission, which was incorporated by reference into the proclamation. I have determined that it is necessary to make certain additional changes to the HTS to conform it with the Convention.

21. Sections 502(d)(1) and 503(c)(1) of the Trade Act (19 U.S.C. 2462(d)(1) and 2463(c)(1)), provide that the President may withdraw, suspend, or limit the application of the duty-free treatment accorded under the Generalized System of Preferences (the “GSP”) with respect to any country and any article upon consideration of the factors set forth in sections 501 and 502(c) of the Trade Act (19 U.S.C. 2461 and 2462(c)).

22. Pursuant to sections 502(d)(1) and 503(c)(1) of the Trade Act and having considered the factors set forth in sections 501 and 502(c) of such Act, including, in particular, section 502(c)(5) (19 U.S.C. 2462(c)(5)) on the extent to which a designated beneficiary developing country is providing adequate and effective protection of intellectual property rights, I have determined that it is appropriate to suspend the duty-free treatment accorded under the GSP to certain eligible articles that are the product of Ukraine, as provided in Annex III of this proclamation.

23. Section 502 of the Trade Act (19 U.S.C. 2462), authorizes the President to designate countries as beneficiary developing countries for purposes of the GSP. Section 502(f)(1)(A) of the Trade Act (19 U.S.C. 2462(f)(1)(A)) requires the President to notify the Congress before designating any country as a beneficiary developing country.

24. In Proclamation 8788 of March 26, 2012, after having considered the factors set forth in section 502(b)(2)(E) of the Trade Act (19 U.S.C. 2462(b)(2)(E)), President Obama suspended Argentina's designation as a GSP beneficiary developing country because it had not acted in good faith in enforcing arbitral awards in favor of United States citizens or a corporation, partnership, or association that is 50 percent or more beneficially owned by United States citizens.

25. Pursuant to section 502(a)(1) of the Trade Act, and taking into account the factors set forth in section 502(b) (19 U.S.C. 2462(b)), in particular section 502(b)(2)(E), I have determined that the suspension pursuant to Proclamation 8788 of Argentina's designation as a GSP beneficiary developing country should end.

26. Section 604 of the Trade Act (19 U.S.C. 2483) authorizes the President to embody in the HTS the substance of the relevant provisions of that Act, and of other acts affecting import treatment, and actions thereunder, including removal, modification, continuance, or imposition of any rate of duty or other import restriction.

27. Section 1206(c) of the 1988 Act (19 U.S.C. 3006(c)) provides that any modifications proclaimed by the President under section 1206(a) of the 1988 Act may not take effect before the thirtieth day after the date on which the text of the proclamation is published in the Federal Register.

NOW, THEREFORE, I, DONALD J. TRUMP, President of the United States of America, by virtue of the authority vested in me by the Constitution and the laws of the United States of America, including but not limited to section 506A(a)(1) of the Trade Act (19 U.S.C. 2466a(a)(1)); section 4(b) of the USIFTA Act (19 U.S.C. 2112 note); section 1206(a) of the 1988 Act (19 U.S.C. 3006(a)); section 201 of the CAFTA-DR Act (19 U.S.C. 4031); section 604 of the Trade Act (19 U.S.C. 2483); and sections 502(a)(1), 502(d)(1), and 503(c)(1) of the Trade Act (19 U.S.C. 2462(a)(1), 2462(d)(1), and 2463(c)(1)) do proclaim that:

(1) The Gambia and the Kingdom of Swaziland are designated as beneficiary sub-Saharan African countries.

(2) In order to reflect this designation in the HTS, general note 16(a) and U.S. note 1 to subchapter XIX of chapter 98 to the HTS are each modified by inserting “The Gambia” and “Swaziland,” in alphabetical sequence, in the list of beneficiary sub-Saharan African countries. Further, note 2(d) to subchapter XIX of chapter 98 is modified by inserting “The Gambia” and “Swaziland,” in alphabetical sequence, in the list of lesser developed beneficiary sub-Saharan African countries.

(3) In order to implement U.S. tariff commitments under the 2004 US-Israel Agreement through December 31, 2018, the HTS is modified as provided in Annex I of this proclamation.

(4) The modifications to the HTS set forth in Annex I of this proclamation shall be effective with respect to eligible agricultural products of Israel that are entered, or withdrawn from warehouse for consumption, on or after January 1, 2018.

(5) The provisions of subchapter VIII of chapter 99 of the HTS, as modified by Annex I of this proclamation, shall continue in effect through December 31, 2018.

(6) In order to provide generally for the modifications in the rules for determining whether goods imported into the customs territory of the United States are eligible for preferential tariff treatment under the CAFTA-DR, to provide preferential tariff treatment for certain other goods under the CAFTA-DR, and to make technical and conforming changes in the general notes to the HTS, the HTS is modified as set forth in Annex II of this proclamation.

(7) The modifications to the HTS made by paragraph (6) of this proclamation shall enter into effect on the date, as announced by the United States Trade Representative in the Federal Register, that the applicable conditions set forth in the CAFTA-DR have been fulfilled, and shall be effective with respect to goods entered, or withdrawn from warehouse for consumption, on or after that date.

(8) In order to provide the intended tariff treatment with respect to the modifications to the pharmaceuticals appendix to the HTS, effective with respect to goods entered, or withdrawn from warehouse or consumption, on or after January 1, 2018, and with respect to goods for which entry is unliquidated or otherwise not final as of that date, subheading 2843.29.01 is modified by inserting the symbol, “K”, in alphabetical sequence, into the parenthetical expression in the Rates of Duty 1-Special subcolumn.

(9) In order to provide the intended tariff treatment with respect to the addition of the pharmaceuticals appendix to the HTS, effective with respect to goods entered, or withdrawn from warehouse or consumption, on or after January 1, 2018, and with respect to goods for which entry is unliquidated or otherwise not final as of that date, subheading 3907.99.50 is modified by inserting the symbol, “K”, in alphabetical sequence, into the parenthetical expression in the Rates of Duty 1-Special subcolumn.

(10) In order to reflect certain additional conforming changes to Annex I of Proclamation 9466, the subheading 9030.33.34 of the HTS is modified by inserting the symbol, “C”, in alphabetical sequence, into the parenthetical expression in the Column 1-Special Rates of Duty subcolumn.

(11) The modifications to the HTS made by paragraph (10) of this proclamation shall be effective with respect to goods entered, or withdrawn from warehouse for consumption, on or after July 1, 2016.

(12) In order to reflect certain additional conforming changes to the HTS, additional U.S. note 1 to chapter 21 of the HTS is modified by deleting “2202.90.30, 2202.90.35, 2202.90.36 and 2202.90.37” and inserting “2202.99.30, 2202.99.35, 2202.99.36 and 2202.99.37” in lieu thereof.

(13) The modifications to the HTS made by paragraph (12) of this proclamation shall be effective with respect to goods entered, or withdrawn from warehouse for consumption, on the thirtieth day after the date of publication of this proclamation in the Federal Register.

(14) In order to provide that Ukraine should no longer be treated as a beneficiary developing country with respect to certain eligible articles for purposes of the GSP, the HTS is modified as provided in Annex III of this proclamation.

(15) In order to reflect the suspension of certain benefits under the GSP with respect to Ukraine, the modifications made in Annex III shall be effective with respect to articles entered, or withdrawn from warehouse for consumption, on or after the date that is 120 days after the date of publication of this proclamation in the Federal Register.

(16) In order to reflect in the HTS the termination of the suspension of Argentina's designation as a GSP beneficiary developing country, the HTS is modified as provided in Annex IV of this proclamation.

(17) The modifications to the HTS made by paragraph (16) of this proclamation shall be effective with respect to articles entered, or withdrawn from warehouse for consumption, on or after January 1, 2018.

(18) Any provisions of previous proclamations and Executive Orders that are inconsistent with the actions taken in this proclamation are superseded to the extent of such inconsistency.

IN WITNESS WHEREOF, I have hereunto set my hand this twenty-second day of December, in the year of our Lord two thousand seventeen, and of the Independence of the United States of America the two hundred and forty-second.

Billing code 3295-F8-P

[FR Doc. 2017-28144

Filed 12-26-17; 11:15 a.m.]

Billing code 7020-02-C